DEPARTMENT OF THE INTERIOR

National Park Service

[NPS-WASO-NAGPRA-23397; PPWOCRADN0-PCU00RP14.R50000]

Notice of Inventory Completion: Human Remains Repository, Department of Anthropology, University of Wyoming, Laramie, WY

AGENCY: National Park Service, Interior.

ACTION: Notice.

SUMMARY: The Human Remains Repository, Department of Anthropology, University of Wyoming, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Human Remains Repository, Department of Anthropology, University of Wyoming. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Human Remains Repository, Department of Anthropology, University of Wyoming, at the address in this notice by July 31, 2017.

ADDRESSES: Dr. Rick L. Weathermon, Curator, Human Remains Repository, Department 3431, Anthropology, 1000 East University Avenue, University of Wyoming, Laramie, WY 82071, telephone (307) 314-2035, email rikw@uwyo.edu.

SUPPLEMENTARY INFORMATION: Notice is here given in accordance with the Native American Graves Protection and Repatriation Act (NAGPRA), 25 U.S.C. 3003, of the completion of an inventory of human remains under the control of the Human Remains Repository, Department of Anthropology, University of Wyoming, Laramie, WY. The human remains were removed from an unknown location in Hamilton County, TX.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Human Remains Repository, Department of Anthropology, University of Wyoming, professional staff in consultation with representatives of the Tonkawa Tribe of Indians of Oklahoma. The following Indian Tribes were invited to consult but did not participate in consultation: Apache Tribe of Oklahoma; Comanche Nation, Oklahoma; Jicarilla Apache Nation, New Mexico; Kiowa Indian Tribe of Oklahoma; Mescalero Apache Tribe of the Mescalero Reservation, New Mexico; San Carlos Apache Tribe of the San Carlos Reservation, Arizona; Tonto Apache Tribe of Arizona, and White Mountain Apache Tribe of the Fort Apache Reservation, Arizona.

History and Description of the Remains

At some time in the 1920s, human remains representing, at minimum, one individual were removed from an unknown location in Hamilton County, TX. The fragmentary human remains were given to the Anna Miller Museum in Newcastle, WY, in 1969 and then transferred to the University of Wyoming Anthropology Department Human Remains Repository (Record HR202) in 1993. The human remains represent a single adult male. No known individual was identified. No associated funerary objects are present.

At the time of the excavation and removal of these human remains, the land from which the human remains were removed was not the tribal land of any Indian tribe or Native Hawaiian organization. In January of 2017, the Human Remains Repository, Department of Anthropology, University of Wyoming, initiated consultation with all Indian tribes who are recognized as aboriginal to the area from which these Native American human remains were removed. These tribes are the Comanche Nation, Oklahoma, and the Kiowa Indian Tribe of Oklahoma. None of these Indian tribes responded to the invitation nor agreed to accept control of the human remains. In May of 2017, the Human Remains Repository, Department of Anthropology, University of Wyoming, agreed to transfer control of the human remains to the Tonkawa Tribe of Indians of Oklahoma.

Determinations Made by the Human Remains Repository, Department of Anthropology, University of Wyoming

Officials of the Human Remains Repository, Department of Anthropology, University of Wyoming, have determined that:

• Pursuant to 25 U.S.C. 3001(9), the human remains described in this notice are reasonably believed to be Native American based on museum notes and characteristic features of the cranial fragments.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Pursuant to 43 CFR 10.11(c)(2)(i), the disposition of the human remains may be to the Tonkawa Tribe of Indians of Oklahoma.

Additional Requestors and Disposition

Representatives of any Indian Tribe or Native Hawaiian organization not identified in this notice that wish to request transfer of control of these human remains should submit a written request with information in support of the request to Dr. Rick L. Weathermon, Curator, Human Remains Repository, Department 3431, Anthropology, 1000 East University Avenue, University of Wyoming, Laramie, WY 82071, telephone (307) 314-2035, email rikw@uwyo.edu, by July 31, 2017. After that date, if no additional requestors have come forward, transfer of control of the human remains to the Tonkawa Tribe of Indians of Oklahoma may proceed.

The Human Remains Repository, Department of Anthropology, University of Wyoming, is responsible for notifying the Apache Tribe of Oklahoma; Comanche Nation, Oklahoma; Jicarilla Apache Nation, New Mexico; Kiowa Indian Tribe of Oklahoma; Mescalero Apache Tribe of the Mescalero Reservation, New Mexico; San Carlos Apache Tribe of the San Carlos Reservation, Arizona; Tonkawa Tribe of Indians of Oklahoma; Tonto Apache Tribe of Arizona; and White Mountain Apache Tribe of the Fort Apache Reservation, Arizona, that this notice has been published.

Dated: May 12, 2017.
Melanie O'Brien,
Manager, National NAGPRA Program.

[FR Doc. 2017-13744 Filed 6-29-17; 8:45 am]

BILLING CODE 4312-52-P